NUCLEAR REGULATORY COMMISSION

[Docket Nos. 50-282 and 50-306; NRC-2010-0325]

Northern States Power Company—Minnesota; Notice of Withdrawal of Application for Amendment to Facility Operating License

The U.S. Nuclear Regulatory Commission (the Commission) has granted the request of Northern States Power Company, a Minnesota corporation (the licensee), doing business as Xcel Energy, to withdraw its January 27, 2010, application for proposed amendment to Facility Operating License Nos. DPR-42 and DPR-60, for the Prairie Island Nuclear Generating Plant, Units 1 and 2, respectively, located in Goodhue County.

The proposed amendment would have revised the facility Technical Specifications (TSs) pertaining to the diesel fuel oil storage volumes in TS 3.8.3.

The Commission had previously issued a Notice of Consideration of Issuance of Amendment published in the Federal Register on May 4, 2010 (75 FR 23817). However, by letter dated September 16, 2010, the licensee withdrew the proposed change.

For further details with respect to this action, see the application for amendment dated January 27, 2010 (Agencywide Documents Access and Management System (ADAMS) Accession No. ML100280162), and the licensee's letter dated September 16, 2010 (ADAMS Accession No. ML102590644), which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 1st day of October 2010.
For the Nuclear Regulatory Commission.
Thomas J. Wengert,
Senior Project Manager, Plant Licensing Branch III-1, Division of Operating Reactor Licensing, Office of Nuclear Reactor Regulation.

[FR Doc. 2010-25875 Filed 10-13-10; 8:45 am]

BILLING CODE 7590-01-P